DEPARTMENT OF ENERGY

Federal Energy Regulatory Commission

[Project No. 10934-000]

Sugar River II, LLC; Notice Soliciting Pre-Application Documents and Notices of Intent To File a Subsequent License Application

On May 24, 2016, William B. Ruger, Jr., the then licensee for the Sugar River II Project No. 10934 (project) filed a Notice of Intent (NOI) to file an application for a subsequent license for the project.¹ The existing license for the project expires on April 30, 2021.² On October 6, 2016, Commission staff approved the use of the traditional licensing process to develop the license application, and on October 7, 2016, Commission staff issued a public notice of Mr. Ruger's NOI.

¹ 18 CFR 16.19(b) (2018).

² The license for the project was issued with an effective date of May 1, 1991, for a term of 30 years. William B. Ruger, 55 FERC ¶ 62,118 (1991).

Pursuant to section 16.20(c) of the Commission's regulations, an existing licensee with a minor license not subject to sections 14 and 15 of the Federal Power Act must file an application for a subsequent license at least 24 months prior to the expiration of the current license, which with respect to the Sugar River II Project, was April 30, 2019.³ On April 30, 2019, the current licensee, Sugar River Hydro II, LLC,⁴ filed a letter stating that it is not filing an application to relicense the project.

³ 18 CFR 16.20(c) (2018).

⁴ On January 26, 2017, the Commission approved a transfer of the license for the project from William B. Ruger to Sugar River Hydro II, LLC. William B. Ruger, Jr. and Sugar River Hydro II, LLC, 158 FERC ¶ 62,053 (2017).

Pursuant to section 16.25(a) of the Commission's regulations, when an existing licensee, having previously filed an NOI to file a subsequent license for a project, subsequently does not file a license application, the Commission must solicit applications from potential applicants other than the existing licensee.⁵ Any party interested in filing a license application or exemption (i.e., a potential applicant) for the project must file an NOI and pre-application document within 90 days from the date of this notice.⁶ While the integrated licensing process is the default process for preparing an application for a subsequent license, a potential applicant may request to use alternative licensing procedures when it files its NOI.⁷ An application for a subsequent license or exemption for the Sugar River II Project No. 10934 must be filed within 18 months of the date of filing the NOI.

⁵ 18 CFR 16.25(a) (2018).

⁶ Pursuant to section 16.24(b)(2) of the Commission's regulations, the existing licensee, Sugar River Hydro II, LLC, is prohibited from filing an application for a subsequent license or exemption for the project, either individually or in conjunction with other entities. 18 CFR 16.24(b)(2) (2018).

⁷ 18 CFR 5.3(b) (2018).

Questions concerning the process for filing an NOI should be directed to Michael Watts at 202-502-6123 or michael.watts@ferc.gov.

Dated: May 8, 2019.
Kimberly D. Bose,
Secretary.

[FR Doc. 2019-09975 Filed 5-14-19; 8:45 am]

BILLING CODE 6717-01-P